DEPARTMENT OF HEALTH AND HUMAN SERVICES

Centers for Disease Control and Prevention

Board of Scientific Counselors, National Center for Injury Prevention and Control

AGENCY: Centers for Disease Control and Prevention (CDC), Department of Health and Human Services (HHS).

ACTION: Notice of closed meeting.

SUMMARY: In accordance with regulatory provisions, the Centers for Disease Control and Prevention (CDC) announces the following meeting for the Board of Scientific Counselors, National Center for Injury Prevention and Control (BSC, NCIPC or Board). This meeting is closed to the public.

DATES: The meeting will be held on June 8, 2023, from 1 p.m. to 3:30 p.m., EDT (CLOSED).

ADDRESSES: Webinar, Atlanta, Georgia.

FOR FURTHER INFORMATION CONTACT: Christopher R. Harper, Ph.D., Designated Federal Officer, National Center for Injury Prevention and Control, Centers for Disease Control and Prevention, 4770 Buford Highway NE, Mailstop S-1069, Atlanta, Georgia 30341. Telephone: (404) 718-8330; Email: ncipcbsc@cdc.gov.

SUPPLEMENTARY INFORMATION: The meeting referenced above will be closed to the public in accordance with provisions set forth in Section 552b(c)(4) and (6), Title 5 U.S.C., and the Determination of the Director, Strategic Business Initiatives Unit, Office of the Chief Operating Officer, CDC, pursuant to 5 U.S.C. 1009 (Pub. L. 92-463, as amended).

Purpose: The Board of Scientific Counselors, National Center for Injury Prevention and Control (BSC, NCIPC or Board) will: (1) conduct, encourage, cooperate with, and assist other appropriate public health authorities, scientific institutions, and scientists in the conduct of research, investigations, experiments, demonstrations, and studies relating to the causes and strategies related to the prevention of injury and violence; (2) assist States and other entities in preventing intentional and unintentional injuries, and to promote health and well-being; and (3) make recommendations of grants and cooperative agreements for research and prevention activities related to injury and violence. The BSC, NCIPC makes recommendations regarding policies, strategies, objectives, and priorities and reviews progress toward injury and violence prevention. The Board also provides advice on the appropriate balance of intramural and extramural research and provides guidance on the needs, structure, progress, and performance of intramural programs. The Board also provides guidance on extramural scientific program matters. The Board provides second-level scientific and programmatic review for applications for research grants, cooperative agreements, and training grants related to injury and violence prevention, and recommends approval of projects that merit further consideration for funding support. The Board also recommends areas of research to be supported by contracts and cooperative agreements and provides concept reviews of program proposals and announcements.

Matters To Be Considered: The closed meeting will focus on the Secondary Peer Review of extramural research grant applications received in response to five (5) Notices of Funding Opportunity: RFA-CE-23-002—“Grants to Support New Investigators in Conducting Research Related to Understanding Polydrug Use Risk and Protective Factors”; RFA-CE-23-003—“Grants to Support New Investigators in Conducting Research Related to Preventing Interpersonal Violence Impacting Children and Youth”; RFA-CE-23-004—“Research Grants for Preventing Violence and Violence Related Injury (R01)”; RFA-CE-23-005—“Research Grants to Inform Firearm-Related Violence and Injury Prevention Strategies (R01)”; and RFA-CE-23-006—“Research Grants to Rigorously Evaluate Innovative and Promising Strategies to Prevent Firearm-Related Violence and Injuries (R01).” Agenda items are subject to change as priorities dictate.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2023-09066 Filed 4-28-23; 8:45 am]

BILLING CODE 4163-18-P